PEACE CORPS

Information Collection Request; Submission for OMB Review

AGENCY: Peace Corps.

ACTION: 60-Day notice and request for comments.

SUMMARY: The Peace Corps will submit the following information collection request to the Office of Management and Budget (OMB) for approval. The purpose of this notice is to allow 60 days for public comment in the Federal Register preceding submission to OMB. We are conducting this process in accordance with the Paperwork Reduction Act of 1995 (44 U.S.C. chapter 35).

DATES: Submit comments on or before November 29, 2011.

ADDRESSES: Comments should be addressed to Denora Miller, Freedom of Information Act Officer. Denora Miller can be contacted by telephone at 202-692-1236 or e-mail at pcfr@peacecorps.gov. E-mail comments must be made in text and not in attachments.

FOR FURTHER INFORMATION CONTACT: Denora Miller at Peace Corps address above.

SUPPLEMENTARY INFORMATION: It has been the Peace Corps' longstanding policy to exclude from Peace Corps Volunteer service and Peace Corps employment any persons who have engaged in intelligence activity or related work or who have been employed by or connected with an intelligence Agency. It is crucial to the Peace Corps in carrying out its mission that there is a complete and total separation of Peace Corps from the intelligence activities of the United States government, both in reality and appearance. Any semblance of a connection between Peace Corps and the intelligence community would seriously compromise the ability of the Peace Corps to develop and maintain the trust and confidence of the people of the host countries. It could also put Volunteers at risk in the countries in which they serve.

Method: E-mailing the Intelligence Background Questionnaire to applicants or their relatives with an intelligence connection. The respondent returns the Intelligence Background Questionnaire by E-mail or fax.

Title: Intelligence Background Questionnaire.

OMB Control Number: 0420-pending.

Type of information collection: New information collection.

Affected public: Individuals or households.

Respondents' obligation to reply: Required to obtain or retain benefits.

Burden to the public:

(a) Estimated number of respondents: 100.

(b) Frequency of response: One time.

(c) Estimated average burden per response: 10 minutes.

(d) Estimated total reporting burden: 16.67 hours.

(e) Estimated annual cost to respondents: $0.00.

General description of collection: Peace Corps' Office of the General Counsel uses the form to determine what kind of intelligence connection an applicant or an applicant's relative might have and how close an applicant and a relative with an intelligence connection are. The Office of the General Counsel uses the information to determine whether the intelligence connection is substantial enough to prevent the person from being employed at the Peace Corps or being a Volunteer for the Peace Corps permanently or for a set period of time from the last intelligence connection. If an applicant disagrees with the General Counsel's determination, he or she may appeal the determination to the Director of the Peace Corps.

Request for Comment: Peace Corps invites comments on whether the proposed collection of information is necessary for proper performance of the functions of the Peace Corps Response, including whether the information will have practical use; the accuracy of the agency's estimate of the burden of the proposed collection of information, including the validity of the information to be collected; and, ways to minimize the burden of the collection of information on those who are to respond, including through the use of automated collection techniques, when appropriate, and other forms of information technology.

This notice issued in Washington, DC, on September 23, 2011.
Earl W. Yates,
Associate Director, Management.

[FR Doc. 2011-25200 Filed 9-29-11; 8:45 am]

BILLING CODE 6051-01-P